ENVIRONMENTAL PROTECTION AGENCY

[AMS-FRL-7210-7]

Meeting of the Clean Diesel Independent Review Panel

AGENCY: Environmental Protection Agency (EPA).

ACTION: Notice of meeting.

SUMMARY: Pursuant to the Federal Advisory Committee Act, Public Act, Public Law 92-463, notice is hereby given that the Clean Diesel Independent Review Panel of the Clean Air Act Advisory Committee will be active until September 30, 2002. This notice pertains to the first meeting of the panel. All panel meetings are open to the public. The preliminary agenda for this meeting will be available on the panel's website in early May: http://www.epa.gov/air/caaac/subcommittees.html.

DATES: Thursday, May 23 from 9 a.m. to 5 p.m.Registration begins at 8:30 a.m.

ADDRESSES: The meeting will be held at the Old Town Holiday Inn Select, 480 King Street, Alexandria, VA 22314, (703) 549-6080.

FOR FURTHER INFORMATION CONTACT: Technical Information: Ms. Mary Manners, Designated Federal Official, U.S. EPA, National Vehicle and Fuels Emission Laboratory, Assessment and Standards Division, 2000 Traverwood, Ann Arbor MI 48105; telephone (734) 214-4873, fax (734) 214-4051, e-mail: manners.mary@epa.gov.

Logistical and Administrative Information: Ms. Julia MacAllister, FACA Management Officer, National Vehicle and Fuels Emission Laboratory, Assessment and Standards Division, 2000 Traverwood, Ann Arbor MI 48105; telephone (734) 214-4131, fax (734) 214-4816, e-mail: macallister.julia@epa.gov.

Current Information: http://www.epa.gov/air/caaac/subcommittees.html.

Individuals or organizations wishing to provide comments to the panel should submit them to Ms. Manners at the address above by September 30, 2002. The Clean Diesel Independent Review Panel expects that public statements presented at its meetings will not be repetitive of previously submitted oral or written statements.

Dated: May 7, 2002.
Margo T. Oge,
Director, Office of Transportation and Air Quality.

[FR Doc. 02-11816 Filed 5-8-02; 1:33 pm]

BILLING CODE 6560-50-P